FEDERAL ELECTION COMMISSION

11 CFR Part 114

[Notice 2011-08]

Rulemaking Petition: Independent Expenditures and Electioneering Communications by Corporations and Labor Organizations

AGENCY: Federal Election Commission.

ACTION: Rulemaking petition: Notice of Availability.

SUMMARY: On January 26, 2010, the James Madison Center for Free Speech submitted to the Commission a Petition for Rulemaking. The Petition urges the Commission to conform its regulations regarding independent expenditures and electioneering communications made by corporations, membership organizations, and labor organizations to the decision of the Supreme Court in Citizens United v. FEC. The Petition is available for inspection in the Commission's Public Records Office, on its Web site, http://www.fec.gov/fosers/, and through its Faxline service.

DATES: Statements in support of or in opposition to the Petition must be submitted on or before August 22, 2011.

ADDRESSES: All comments must be in writing. Comments may be submitted electronically via the Commission's Web site at http://www.fec.gov/fosers/. Commenters are encouraged to submit comments electronically to ensure timely receipt and consideration. Alternatively, comments may be submitted in paper form. Paper comments must be sent to the Federal Election Commission, Attn.: Robert M. Knop, Assistant General Counsel, 999 E Street, NW., Washington, DC 20463. All comments must include the full name and postal service address of a commenter, and of each commenter if filed jointly, or they will not be considered. The Commission will post comments on its Web site at the conclusion of the comment period.

FOR FURTHER INFORMATION CONTACT: Mr. Robert M. Knop, Assistant General Counsel, or Ms. Cheryl A.F. Hemsley, Attorney, 999 E Street, NW., Washington, DC 20463, (202) 694-1650 or (800) 424-9530.

SUPPLEMENTARY INFORMATION: The Federal Election Commission (“Commission”) has received a Petition for Rulemaking from the James Madison Center for Free Speech. The petitioner asks that the Commission conform FEC regulations at 11 CFR 114.2, 114.4, 114.9, 114.10, 114.14, and 114.15 to the decision of the Supreme Court in Citizens United v. FEC, 558 U.S., 130 S. Ct. 876 (2010) allowing corporations, membership organizations, and labor organizations to make independent expenditures and electioneering communications. The Commission seeks comments on the petition.

Copies of the Petition for Rulemaking are available for public inspection at the Commission's Public Records Office, 999 E Street, NW., Washington, DC 20463, Monday through Friday between the hours of 9 a.m. and 5 p.m., and on the Commission's Web site, http://www.fec.gov/fosers/. Interested persons may also obtain a copy of the Petition by dialing the Commission's Faxline service at (202) 501-3413 and following its instructions, at any time of the day and week. Request document #272.

Consideration of the merits of the Petition will be deferred until the close of the comment period. If the Commission decides that the Petition has merit, it may begin a rulemaking proceeding. Any subsequent action taken by the Commission will be announced in the Federal Register.

Dated: June 15, 2010.
Cynthia L. Bauerly,
Chair, Federal Election Commission.

[FR Doc. 2011-15327 Filed 6-20-11; 8:45 am]

BILLING CODE 6715-01-P